DEPARTMENT OF THE INTERIOR

Fish and Wildlife Service

[FWS-R9-IA-2009-N011]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act requires that we invite public comment on these permit applications.

DATES: Written data, comments or requests must be received by February 25, 2010.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Conroe Taxidermy, Conroe, TX, PRT-230925

The applicant request a permit to re-export the full mount with bleached skull sport-hunted trophy of one male scimitar-horned oryx (Oryx dammah), culled from a captive herd in the Republic of South Africa, for the purpose of enhancement of the survival of the species previously imported under PRT-MA209373-0 issue May 3, 2009.

Applicant: Oklahoma State University, Stillwater, OK, PRT-237938

The applicant requests a permit to import biological samples taken from five captive held western lowland gorillas (Gorilla gorilla) from Project Protection des Gorilles, Gabon, for the purpose of enhancement of the survival of the species.

Endangered Marine Mammals and Marine Mammals

The public is invited to comment on the following application for a permit to conduct certain activities with endangered marine mammals and/or marine mammals. The application was submitted to satisfy requirements of the Endangered Species Act of 1973, as amended (16 U.S.C. 1531 et seq.) and/or the Marine Mammal Protection Act of 1972, as amended (16 U.S.C. 1361 et seq.), and the regulations governing endangered species (50 CFR Part 17) and/or marine mammals (50 CFR Part 18). Submit your written data, comments, or requests for copies of the complete applications or requests for a public hearing on these applications to the address shown in ADDRESSES. If you request a hearing, give specific reasons why a hearing would be appropriate. The holding of such a hearing is at the discretion of the Director.

Applicant: SAAMS, Alaska SeaLife Center, Seward, Alaska, PRT-877414

The applicant requests a permit and a letter of authorization for the rescue, rehabilitation and release of unlimited number stranded northern sea otters (Enhydra lutris kenyoni) and walrus (Odobenus rosmarus) in Alaska waters. This notification covers activities to be conducted by the applicant over a 5-year period.

Concurrent with publishing this notice in the Federal Register, we are forwarding copies of the above applications to the Marine Mammal Commission and the Committee of Scientific Advisors for their review.

Dated: January 15, 2010
Brenda Tapia,
Program Analyst, Branch of Permits, Division of Management Authority.

[FR Doc. 2010-1402 Filed 1-25-10; 8:45 am]

BILLING CODE 4310-55-S